DEPARTMENT OF HEALTH AND HUMAN SERVICES

Administration for Children and Families

Submission for OMB Review; National Survey of Early Care and Education COVID-19 Follow-Up (OMB #0970-0391)

AGENCY: Office of Planning, Research, and Evaluation, Administration for Children and Families, HHS.

ACTION: Request for public comment.

SUMMARY: The Administration for Children and Families (ACF), U.S. Department of Health and Human Services (HHS), is proposing a two-wave data collection as part of the National Survey of Early Care and Education (NSECE) (OMB #0970-0391), which will be conducted October 2020 through June 2021. The objective of the NSECE COVID-19 Follow-up is to document the nation's current supply of early care and education (ECE) services that is home-based providers, center-based providers, and the center-based provider workforce. In the context of the COVID-19 pandemic, the NSECE COVID-19 Follow-up will deepen our understanding of the state of ECE supply and the ECE workforce following the initial period of crisis, including changes in supply or departures from and re-entries to the workforce.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The NSECE COVID-19 Follow-up will collect information from center-based ECE providers of care to children birth through age 5 (not yet in kindergarten), home-based ECE providers that serve children under age 13, as well as the ECE workforce providing these services. The proposed collection will consist of the following three coordinated nationally representative surveys:

1. A two-wave survey of individuals who provided paid care for children under the age of 13 in a residential setting, as of 2019, and who participated in the 2019 NSECE (Home-based Provider Interview);

2. a two-wave survey of providers of care to children ages 0 through 5 years of age (not yet in kindergarten) in a non-residential setting (Center-based Provider Interview), as of 2019, and who participated in the 2019 NSECE; and

3. a two-wave survey conducted with individuals employed in center-based child care programs working directly with children in classrooms (Center-based Classroom Staff [Workforce] Interview), as of 2019, and who participated in the 2019 NSECE.

The NSECE COVID-19 Follow-up will provide urgently needed information about the supply of child care and early education available to families across all income levels, including providers serving low-income families of various racial, ethnic, language, and cultural backgrounds, in diverse geographic areas. The study will also dramatically extend the available resources for understanding the national impact of the COVID-19 pandemic on the country's ECE supply and workforce, including geographic variation therein. Accurate data on the availability and characteristics of ECE programs are essential to assess the current and changing landscape of child care and early education programs and understand the ability of the nation's supply and workforce to meet the needs of parents of young children in the post-pandemic economy, and will provide insights to advance policy and initiatives in the ECE field.

Respondents: Home-based providers, as of 2019, serving children under 13 years of age (listed and unlisted paid)—regardless of their status serving children in 2020-2021; center-based child care providers, as of 2019, serving children ages 0 through 5 years of age (not yet in kindergarten)—regardless of their status serving children in 2020-2021; and classroom-assigned instructional staff members working with children ages 0 through 5 years of age (not yet in kindergarten) in center-based child care providers, as of 2019, regardless of their employment status in 2020-2021.

Annual Burden Estimates
Instrument | Annual number of respondents | Number of responses per respondent | Average burden hours per response | Annual burden hours
Home-based Provider Interview, Waves 1 and 2 | 3,375 | 1.5 | .33 | 1,671
Center-based Provider Interview, Waves 1 and 2 | 5,850 | 1.5 | .33 | 2,896
Center-based Classroom Staff (Workforce) Interview, Waves 1 and 2 | 3,533 | 1.5 | .33 | 1,749

Estimated Total Annual Burden Hours: 6,316.

Authority: Child Care and Development Block Grant Act (42 U.S.C. 9858 et. seq.).

John M. Sweet Jr,
ACF/OPRE Certifying Officer.

[FR Doc. 2020-21509 Filed 9-28-20; 8:45 am]

BILLING CODE 4184-23-P